COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes a product and services from the Procurement List that were be furnished by nonprofit agencies employing persons who are blind or have other severe disabilities.

DATES: Date deleted from the Procurement List: May 3, 2020.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

On 2/28/2020, the Committee for Purchase From People Who Are Blind or Severely Disabled published notice of proposed deletions from the Procurement List.

After consideration of the relevant matter presented, the Committee has determined that the product and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product and services to the Government.

3. There are no known regulatory alternatives which would accomplish the objectives of the Javits-Wagner-O'Day Act (41 U.S.C. 8501-8506) in connection with the product and services deleted from the Procurement List.

End of Certification

Accordingly, the following product and services are deleted from the Procurement List:

Product

NSN—Product Name:

7920-00-926-5146—Extension, Handle, Telescoping, Aluminum, 5' to 10'L

Mandatory Source of Supply: Arizona Industries for the Blind, Phoenix, AZ

Contracting Activity: GSA/FSS GREATER SOUTHWEST ACQUISITI, FORT WORTH, TX

Services

Service Type: Form/Publication Storage & Distribution

Mandatory for: Department of Agriculture, Landover, MD

Contracting Activity: AGRICULTURE, DEPARTMENT OF, PROCUREMENT OPERATIONS DIVISION

Service Type: Mailing Services

Mandatory for: Bureau of Public Debt: 200 Third Street, Parkersburg, WV

Mandatory Source of Supply: SW Resources, Inc., Parkersburg, WV

Contracting Activity: TREASURY, DEPARTMENT OF THE, DEPT OF TREAS/

Service Type: Grounds Maintenance

Mandatory for: Social Security Administration: 300 North Greene Street, Metro West Complex, Baltimore, MD

Mandatory Source of Supply: The Arc Baltimore, Inc., Baltimore, MD

Contracting Activity: SOCIAL SECURITY ADMINISTRATION, SOCIAL SECURITY ADMINISTRATION

Service Type: Janitorial/Custodial

Mandatory for: Defense Logistics Agency: Depot, Somerville, NJ

Contracting Activity: DEFENSE LOGISTICS AGENCY, DLA SUPPORT SERVICES—DSS

Service Type: Janitorial/Custodial

Mandatory for: Agriculture Cotton Annex: 14th and Independence Avenue, Washington, DC

Mandatory Source of Supply: Melwood Horticultural Training Center, Inc., Upper Marlboro, MD

Contracting Activity: DEPT OF THE NAVY, U S FLEET FORCES COMMAND

Service Type: File Maintenance

Mandatory for: VA Medical Center, Northport, NY

Mandatory Source of Supply: The Corporate Source, Inc., Garden City, NY

Contracting Activity: VETERANS AFFAIRS, DEPARTMENT OF, NAC

Service Type: Mailing Services

Mandatory for: Various Government Agencies in the DC Metro Area

Contracting Activity: COMMITTEE FOR PURCHASE FROM PEOPLE WHO ARE BLIND OR SEVERELY DISABLED, CONTRACTING

Service Type: Metal Machining

Mandatory Source of Supply: ServiceSource, Inc., Oakton, VA

Contracting Activity: COMMERCE, DEPARTMENT OF, COMMERCE, DEPARTMENT OF

Service Type: Microfilm Stripping

Mandatory Source of Supply: Navigations, Incorporated, Battle Creek, MI

Contracting Activity: DEFENSE LOGISTICS AGENCY, DLA SUPPORT SERVICES—DSS

Service Type: Keypunch & Verification

Mandatory Source of Supply: Davis Memorial Goodwill Industries, Washington, DC

Contracting Activity: COMMERCE, DEPARTMENT OF, COMMERCE, DEPARTMENT OF

Service Type: Affix Labels—Patent Document

Mandatory Source of Supply: Linden Resources, Inc., Arlington, VA

Contracting Activity: COMMERCE, DEPARTMENT OF, COMMERCE, DEPARTMENT OF

Service Type: Grounds Maintenance

Mandatory for: Auburn Field Office-BoR: Auburn Field Office, Auburn, CA

Contracting Activity: OFFICE OF POLICY, MANAGEMENT, AND BUDGET, NBC ACQUISITION SERVICES DIVISION

Service Type: Janitorial/Custodial

Mandatory for: National Weather Service: Los Angeles International Airport, Los Angeles, CA

Contracting Activity: COMMERCE, DEPARTMENT OF, COMMERCE, DEPARTMENT OF

Service Type: Food Service Attendant

Mandatory for: Tucson Air National Guard Base: Arizona National Guard, Tucson, AZ

Contracting Activity: DEPT OF THE AIR FORCE, FA7014 AFDW PK

Service Type: Grounds Maintenance

Mandatory for: Defense Finance and Accounting Service: Building 951, San Bernadino, CA

Mandatory Source of Supply: Lincoln Training Center and Rehabilitation Workshop, South El Monte, CA

Contracting Activity: DEPT OF THE ARMY, W40M RHCO-ATLANTIC USAHCA

Service Type: Janitorial/Custodial

Mandatory for: U.S. Coast Guard, Ketchikan, AK

Service Type: Janitorial/Custodial

Mandatory for: Veterans Affairs: Greater Los Angeles Healthcare System, East Los Angeles, CA

Mandatory Source of Supply: Job Options, Inc., San Diego, CA

Contracting Activity: VETERANS AFFAIRS, DEPARTMENT OF, NAC

Service Type: Laundry Service

Mandatory for: Everett Naval Station, Everett, WA

Mandatory Source of Supply: Northwest Center, Seattle, WA

Contracting Activity: DEPT OF THE NAVY, U S FLEET FORCES COMMAND

Service Type: Janitorial/Custodial

Mandatory for: GSA, Warehouses: WA0815KA, WA0816KA, WA0817KA, WA0821KA, WA0822KA, WA0823KA, WA0824KA, WA0825KA, WA0831KA, WA0832KA, Auburn, WA

Mandatory Source of Supply: Northwest Center, Seattle, WA

Contracting Activity: GENERAL SERVICES ADMINISTRATION, FPDS AGENCY COORDINATOR

Service Type: Grounds Maintenance

Mandatory for: Lewiston Levee Parkway, Nez Perce County, ID

Mandatory Source of Supply: Opportunities Unlimited, Inc.—Deleted, Lewiston, ID

Contracting Activity: DEPT OF THE ARMY, W40M RHCO-ATLANTIC USAHCA

Service Type: Janitorial/Custodial

Mandatory for: Airport Building: 9120 NE 47th, Portland, OR

Mandatory Source of Supply: Relay Resources, Portland, OR

Contracting Activity: ENERGY, DEPARTMENT OF, HEADQUARTERS PROCUREMENT SERVICES

Service Type: Janitorial/Custodial

Mandatory for: Social Security Administration Building: 175 East 100 North, Provo, UT

Contracting Activity: GENERAL SERVICES ADMINISTRATION, FPDS AGENCY COORDINATOR

Service Type: Grounds Maintenance

Mandatory for: Naval Station, Treasure Island, CA

Contracting Activity: DEPT OF THE NAVY, U S FLEET FORCES COMMAND

Service Type: Mailing Services

Mandatory for: Government Printing Office: 710 North Capitol & H Street NW, Washington, DC

Mandatory Source of Supply: MVLE, Inc., Springfield, VA

Contracting Activity: Government Printing Office

Service Type: Janitorial/Custodial

Mandatory for: U.S. Army Reserve Center: 360 West California Avenue, Memphis, TN

Mandatory Source of Supply: Shelby Residential and Vocational Services, Inc.—Deleted, Memphis, TN

Contracting Activity: DEPT OF THE ARMY, W40M RHCO-ATLANTIC USAHCA

Service Type: Facility Support Services

Mandatory for: Internal Revenue Service: Martinsburg Computing Center, Kearneysville, KW

Service Type: Janitorial/Custodial

Mandatory for: Federal Complex: 1500 East Bannister Road and 9240 Troost, Kansas City, MO

Mandatory Source of Supply: JobOne, Independence, MO

Contracting Activity: GENERAL SERVICES ADMINISTRATION, FPDS AGENCY COORDINATOR

Service Type: Janitorial/Custodial

Mandatory for: U.S. Post Office and Courthouse, Dubuque, IA

Contracting Activity: GENERAL SERVICES ADMINISTRATION, FPDS AGENCY COORDINATOR

Service Type: Janitorial/Custodial

Mandatory for: Lock and Dam 19, Keokuk, IA

Contracting Activity: DEPT OF THE ARMY, W07V ENDIST ROCK ISLAND

Service Type: Janitorial/Custodial

Mandatory for: U.S. Army Reserve Center: General J. Summer Jones, Wheeling, WV

Contracting Activity: DEPT OF THE ARMY, W40M RHCO-ATLANTIC USAHCA

Service Type: Administrative Services

Mandatory for: Internal Revenue Service, Constellation Centre Building, Oxon Hill, MD, Oxon Hill, MD

Mandatory Source of Supply: Melwood Horticultural Training Center, Inc., Upper Marlboro, MD

Contracting Activity: INTERNAL REVENUE SERVICE, DEPT OF TREAS/INTERNAL REVENUE SERVICE

Service Type: Grounds Maintenance

Mandatory for: Veterans Affairs Medical Center, Salisbury, NC

Contracting Activity: VETERANS AFFAIRS, DEPARTMENT OF, NAC

Service Type: Grounds Maintenance

Mandatory for: USDA-ARS-SEFTNRL, Byron, GA

Contracting Activity: AGRICULTURAL RESEARCH SERVICE, DEPT OF AGRIC/AGRICULTURAL RESEARCH SERVICE

Service Type: Operation of Self Service Supply Store

Mandatory for: U.S. Army Space & Missile Defense Command, Arlington, VA

Mandatory Source of Supply: ServiceSource, Inc., Oakton, VA

Contracting Activity: DEPT OF THE ARMY, W40M RHCO-ATLANTIC USAHCA

Service Type: Repair of Repair of Toolbox & Rollaway

Mandatory for: Robins Air Force Base, Robins AFB, GA

Contracting Activity: DEPT OF THE AIR FORCE, FA8501 AFSC PZIO

Service Type: Laundry Service

Mandatory for: Bangor Naval Sub Base BOQ & BEQ, Bremerton, WA

Mandatory for: Puget Sound Naval Shipyard: Galley and Bachelor Officers' Quarters (BOQ), Bremerton, WA

Mandatory Source of Supply: Northwest Center, Seattle, WA

Contracting Activity: DEPT OF THE NAVY, NAVSUP FLT LOG CTR PUGET SOUND

Service Type: Administrative Services

Mandatory for: Department of Energy: 1000 Independence Avenue SW, Forrestal Building, Washington, DC

Mandatory Source of Supply: Didlake, Inc., Manassas, VA

Contracting Activity: ENERGY, DEPARTMENT OF, HEADQUARTERS PROCUREMENT SERVICES

Service Type: Vehicle Maintenance Services

Mandatory for: Aberdeen Proving Ground, Aberdeen, MD

Mandatory Source of Supply: Alliance, Inc., Baltimore, MD

Contracting Activity: FEDERAL ACQUISITION SERVICE, GSA/FTS ACQUISITION SERVICES DIVISION

Service Type: Janitorial/Custodial

Mandatory for: U.S. Geological Survey: Klamath Field Station, 2795 Anderson Ave., Suite 106, Klamath Falls, OR

Mandatory Source of Supply: Klamath County Mental Health—Deleted, Klamath Falls, OR

Contracting Activity: OFFICE OF POLICY, MANAGEMENT, AND BUDGET, NBC ACQUISITION SERVICES DIVISION

Service Type: Parts Sorting -Hardware/Small Hand Tool & Denumbering, Parts Sorting-Denumbering of Common Handheld Tools

Mandatory for: Robins Air Force Base, Robins AFB, GA

Contracting Activity: DEPT OF THE AIR FORCE, FA8501 AFSC PZIO

Service Type: Laundry Service

Mandatory for: US Army, Asymmetric Warfare Training Center, Fort A.P. Hill, VA, Fort A.P. Hill, VA

Mandatory Source of Supply: Rappahannock Goodwill Industries, Inc., Fredericksburg, VA

Contracting Activity: DEPT OF THE ARMY, W6QK ACC-APG DIR

Service Type: Janitorial/Custodial

Mandatory for: Government Printing Office: 7701 Southern Drive, Springbelt Warehouse, Springfield, VA

Mandatory Source of Supply: Davis Memorial Goodwill Industries, Washington, DC

Contracting Activity: Government Printing Office

Michael R. Jurkowski,
Deputy Director, Business & PL Operations.

[FR Doc. 2020-07028 Filed 4-2-20; 8:45 am]

BILLING CODE 6353-01-P